FEDERAL COMMUNICATIONS COMMISSION

47 CFR Part 25

[IB Docket No. 02-34 and 00-248; FCC 03-154]

Satellite Licensing Procedures

AGENCY: Federal Communications Commission.

ACTION: Final rule, announcement of effective date.

SUMMARY: The Commission adopted rule revisions to require use of new satellite and earth station application forms. Certain rules contained new and modified information requirements and were published in the Federal Register on November 12, 2003. This document announces the effective date of these published rules.

DATES: The amendments to §§ 25.103, 25.111, 25.114, 25.115, 25.117, 25.118, 25.121, 25.131, 25.141, and part 25, Subpart H, published at 68 FR 63994, November 12, 2003, will become effective March 1, 2004.

FOR FURTHER INFORMATION CONTACT: Steven Spaeth, International Bureau, Satellite Policy Branch, (202)418-1539.

SUPPLEMENTARY INFORMATION: On December 1, 2003, the Office of Management and Budget (OMB) approved the information collection requirement contained in §§ 25.103, 25.111, 25.114, 25.115, 25.117, 25.118, 25.121, 25.131, 25.141, and part 25, Subpart H pursuant to OMB Control No. 3060-0678. Accordingly, the information collection requirement contained in these rules will become effective on March 1, 2004.

List of Subjects in 47 CFR Part 25

Satellites.

Federal Communications Commission.
Marlene H. Dortch,
Secretary.

[FR Doc. 03-31968 Filed 12-29-03; 8:45 am]

BILLING CODE 6712-01-P